COMMISSION ON CIVIL RIGHTS

Sunshine Act Meetings

AGENCY: United States Commission on Civil Rights.

ACTION: Notice of commission public business meeting.

DATES: Friday, August 20, 2021, 12 p.m. EST.

ADDRESSES: Meeting to take place by telephone and is open to the public by telephone: 1-800-635-7637, Conference ID #: 8000136.

FOR FURTHER INFORMATION CONTACT: Angelia Rorison: 202-376-7700; publicaffairs@usccr.gov.

SUPPLEMENTARY INFORMATION: In accordance with the Government in Sunshine Act (5 U.S.C. 552b), the Commission on Civil Rights is holding a meeting to discuss the Commission's business for the month of August. This meeting is open to the public. Computer assisted real-time transcription (CART) will be provided. The web link to access CART (in English) on Friday, August 20, 2021, is https://www.streamtext.net/player?event=USCCR. Please note that CART is text-only translation that occurs in real time during the meeting and is not an exact transcript.

Meeting Agenda

I. Approval of Agenda

II. Business Meeting

A. Presentations from Advisory Committees to the Commission on Recent Reports/Memo Releases

B. Discussion and Vote on Iowa Advisory Committee Chair Appointment

C. Discussion and Vote on Advisory Committee Appointments

D. Discussion and Vote on the Release of The Civil Rights Implications of Cash Bail: Briefing Report Before the U.S. Commission on Civil Rights

E. Management and Operations

• Staff Director's Report

III. Adjourn Meeting

Dated: August 19, 2021.
Angelia Rorison,
USCCR Media and Communications Director.

[FR Doc. 2021-18261 Filed 8-20-21; 11:15 am]

BILLING CODE 6335-01-P